ENVIRONMENTAL PROTECTION AGENCY

40 CFR Part 52

[EPA-R04-OAR-2023-0277; FRL-12065-02-R4]

Air Plan Approval; Tennessee; Nitrogen Oxides SIP Call Alternative Monitoring and Domtar Paper Company, LLC

AGENCY: Environmental Protection Agency (EPA).

ACTION: Final rule.

SUMMARY: The Environmental Protection Agency (EPA) is approving a State Implementation Plan (SIP) revision submitted by the State of Tennessee, through the Tennessee Department of Environment and Conservation (TDEC), on June 26, 2023. The June 26, 2023, SIP revision specifies monitoring, recordkeeping, and reporting requirements for large industrial non-electricity generating units (EGUs) subject to the nitrogen oxides (NOX) SIP Call that are permissible as alternatives to the monitoring, recordkeeping, and reporting requirements of 40 CFR part 75. The SIP revision also establishes source-specific alternative monitoring, recordkeeping, and reporting requirements under the NOX SIP Call for Domtar Paper Company, LLC (Domtar).

DATES: This rule is effective October 15, 2024.

ADDRESSES: EPA has established a docket for this action under Docket Identification No. EPA-R04-OAR-2023-0277. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, Region 4, U.S. Environmental Protection Agency, 61 Forsyth Street SW, Atlanta, Georgia 30303-8960. The telephone number is (404) 562-8994. Ms. LaRocca can also be reached via electronic mail at larocca.sarah@epa.gov.

SUPPLEMENTARY INFORMATION:

I. Background

On June 26, 2023, TDEC submitted a SIP revision with changes to Tennessee Air Pollution Control Regulation (TAPCR) 1200-03-27-.12(11) (state effective November 24, 2022) to specify alternative NOX monitoring, recordkeeping, and reporting requirements for large industrial non-EGUs subject to the NOX SIP Call that are permissible as alternatives to the monitoring, recordkeeping, and reporting requirements of 40 CFR part 75. The June 26, 2023, submittal also requests that EPA approve into Tennessee's SIP Tennessee Air Pollution Control Board operating permit No. 079291 for Domtar, State effective on January 12, 2022, to establish alternative NOX monitoring, recordkeeping, and reporting requirements for the No. 2 Power Boiler at this facility, as meeting the requirements of 40 CFR 51.121(i). The submission includes a demonstration under Clean Air Act (CAA) section 110(l) intended to show that these revisions would not interfere with any applicable requirement concerning attainment and reasonable further progress or any other applicable requirement of the CAA.

Through a notice of proposed rulemaking (NPRM) published on July 16, 2024 (89 FR 57823), EPA proposed to approve the changes to TAPCR 1200-03-27-.12(11) and Tennessee Air Pollution Control Board operating permit No. 079291 for Domtar into Tennessee's SIP. Adopting TAPCR 1200-03-27-.12(11) into Tennessee's SIP also satisfies the condition in the conditional approval actions for Packaging Corporation of America (88 FR 8771; February 10, 2023) and Eastman Chemical Company (88 FR 14276; March 8, 2023) and EPA is converting those conditional approvals to full approvals through this final action. The contents of TDEC's submission, EPA's rationale for approving the changes, and EPA's rationale for converting the conditional approval actions for Packaging Corporation of America and Eastman Chemical Company to full approvals, are described in more detail in the July 16, 2024, NPRM. Comments on the July 16, 2024, NPRM were due on or before August 15, 2024. EPA did not receive any comments, adverse or otherwise.

II. Incorporation by Reference

In this document, EPA is finalizing regulatory text that includes incorporation by reference. In accordance with requirements of 1 CFR 51.5, and as discussed in Section I of this preamble, EPA is finalizing the incorporation by reference of TAPCR 1200-03-27-.12(11), state effective on November 24, 2022, into Tennessee's SIP. EPA is also incorporating by reference Tennessee Air Pollution Control Board operating permit No. 079291 for Domtar, state effective on January 12, 2022, into Tennessee's SIP. EPA has made, and will continue to make, these materials generally available through www.regulations.gov and at the EPA Region 4 Office (please contact the person identified in the “For Further Information Contact” section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ See 62 FR 27968 (May 22, 1997).

III. Final Action

EPA is approving the aforementioned Tennessee SIP revision consisting of changes to TAPCR 1200-03-27-.12(11) (state effective on November 24, 2022) and Tennessee Air Pollution Control Board operating permit No. 079291 for Domtar (state effective on January 12, 2022) into the SIP. EPA is also converting the conditional approval actions for Packaging Corporation of America (88 FR 8771; February 10, 2023) and Eastman Chemical Company (88 FR 14276; March 8, 2023) to full approvals.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

TDEC did not evaluate EJ considerations as part of its SIP submittal; the CAA and applicable implementing regulations neither prohibit nor require such an evaluation. EPA did not perform an EJ analysis and did not consider EJ in this action. Consideration of EJ is not required as part of this action, and there is no information in the record inconsistent with the stated goal of E.O. 12898 of achieving environmental justice for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by November 12, 2024. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Reporting and recordkeeping requirements.

Dated: September 6, 2024.
Jeaneanne Gettle,
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart RR—Tennessee

§ 52.2219 [Removed and Reserved]

2. Remove and reserve § 52.2219.

3. In § 52.2220:

a. In paragraph (c), amend Table 1 under “CHAPTER 1200-3-27 NITROGEN OXIDES” by revising the entry for “Section 1200-3-27-.12”; and

b. In paragraph (d), amend the table by:

i. Revising the entries for “Packaging Corporation of America—Counce Mill”, and “Eastman Chemical Company” at the end of the table; and

ii. Adding an entry for “Domtar Paper Company, LLC” at the end of the table.

The revisions and additions read as follows:

§ 52.2220 Identification of plan.

* * * * *

(c) * * *

Table 1—EPA Approved Tennessee Regulations
State citation | Title/subject | State effective date | EPA approval date | Explanation
* * * * * * *
Chapter 1200-3-27 Nitrogen Oxides
* * * * * * *
Section 1200-3-27-.12 | NOX SIP Call Requirements for Stationary Boilers and Combustion Turbines | 12/12/2019 | 9/13/2024, [Insert first page of Federal Register citation] | Except for 1200-3-27-.12(11), which has a state effective date of November 24, 2022. The remainder of 1200-3-27-.12 remains in the SIP with a state effective date of December 12, 2019.
* * * * * * *

(d) * * *

EPA-Approved Tennessee Source-Specific Requirements
Name of source | Permit No. | State effective date | EPA approval date | Explanation
* * * * * * *
Packaging Corporation of America—Counce Mill | 078563 | 6/10/2021 | 9/13/2024, [Insert first page of Federal Register citation] | Converting February 10, 2023 conditional approval to full approval.
Eastman Chemical Company | 077509 | 8/11/2021 | 9/13/2024, [Insert first page of Federal Register citation] | Converting March 8, 2023 conditional approval to full approval.
Domtar Paper Company, LLC | 079291 | 1/12/2022 | 9/13/2024, [Insert first page of Federal Register citation] |

* * * * *

[FR Doc. 2024-20668 Filed 9-12-24; 8:45 am]

BILLING CODE 6560-50-P